DEPARTMENT OF THE INTERIOR

National Park Service

Notice of Inventory Completion for Native American Human Remains and Associated Funerary Objects in the Possession of the Milwaukee Public Museum, Milwaukee, WI

AGENCY: National Park Service.

ACTION: Notice.

Notice is hereby given in accordance with provisions of the Native American Graves Protection and Repatriation Act (NAGPRA), 43 CFR 10.9, of the completion of an inventory of human remains and associated funerary objects in the possession of the Milwaukee Public Museum, Milwaukee, WI.

This notice is published as part of the National Park Service's administrative responsibilities under NAGPRA, 43 CFR 10.2 (c). The determinations within this notice are the sole responsibility of the museum, institution, or Federal agency that has control of these Native American human remains and associated funerary objects. The National Park Service is not responsible for the determinations within this notice.

A detailed assessment of the human remains was made by Milwaukee Public Museum professional staff and contract specialists in physical anthropology, in consultation with representatives of the Aleut Corporation.

In 1934, human remains representing one individual were removed from a cave on “Dorathy Island” (probably Dora Island, AK, first named in 1934) by R. J. Schwerbel while Mr. Schwerbel was stationed in the Aleutian Islands with the U.S. Navy. Mr. Schwerbel donated the remains to the Milwaukee Public Museum in 1934. No known individual was identified. No associated funerary objects are present.

Based on cranial morphology and dental traits, this individual is identified as Native American. The mode of interment in a cave and the geographical location of the burial is consistent with the traditional territory of the Aleut Corporation.

Based on the above-mentioned information, officials of the Milwaukee Public Museum have determined that, pursuant to 43 CFR 10.2 (d)(1), the human remains listed above represent the physical remains of one individual of Native American ancestry. Officials of the Milwaukee Public Museum also have determined that, pursuant to 43 CFR 10.2 (e), there is a relationship of shared group identity that can be reasonably traced between these Native American human remains and the Aleut Corporation.

This notice has been sent to officials of the Native Village of Atka, the Native Village of Akutan, the Native Village of Nelson Lagoon, the Native Village of False Pass, the Agdaagux Tribe of King Cove, the Native Village of Nikolski, St. George Island Village Council, the Aleut Community of St. Paul Island, the Qagun Tayagungin Tribe of Sand Point, the Native Village of Unga, the Qawalangin Tribe of Unalaska, the Native Village of Belkofski, and the Aleut Corporation. Representatives of any other Indian tribe that believes itself to be culturally affiliated with these human remains should contact Dr. Alex Barker, Anthropology Section Head, Milwaukee Public Museum, 800 West Wells Street, Milwaukee, WI 53233, telephone (414) 278-2786, before February 26, 2001. Repatriation of the human remains to the Aleut Corporation may begin after that date if no additional claimants come forward.

Dated: January 15, 2001.
John Robbins,
Assistant Director, Cultural Resources, Stewardship, and Partnerships.

[FR Doc. 01-2345 Filed 1-25-01; 8:45 am]

BILLING CODE 4310-70-F